DEPARTMENT OF THE TREASURY

Internal Revenue Service

Proposed Collection; Comment Request for Form 1139; Correction

AGENCY: Internal Revenue Service (IRS), Treasury.

ACTION: Correction to notice and request for comments.

SUMMARY: This document contains a correction to a notice and request for comments, which was published in the Federal Register on Friday, January 16, 2004 (69 FR 2648). This notice relates to a comment request on proposed collection on form 1139.

FOR FURTHER INFORMATION CONTACT: Allan Hopkins (202) 622-6665 (not a toll-free number).

SUPPLEMENTARY INFORMATION:

Background

The notice and request for comments that is the subject of this correction is required by the Paperwork Reduction Act of 1995, Public Law 104-13 (44 U.S.C. 3506(c)(2)(A)).

Need for Correction

As published, the comment request for Form 1139 contains an error which may prove to be misleading and is in need of clarification.

Correction of Publication

Accordingly, the publication of the comment request for Form 1139, which was the subject of FR Doc. 04-1055, is corrected as follows:

1. On page 2648, column 1, under the paragraph heading SUPPLEMENTARY INFORMATION, the language, “OMB Number: 1545-1582” is corrected to read “OMB Number: 1545-0582”.

Cynthia E. Grigsby,
Acting Chief, Publications and Regulations Branch, Legal Processing Division, Associate Chief Counsel (Procedure and Administration).

[FR Doc. 04-9310 Filed 4-22-04; 8:45 am]

BILLING CODE 4830-01-P